DEPARTMENT OF ENERGY

Energy Information Administration

Agency Information Collection Activities: Proposed Collection; Comment Request

AGENCY: Energy Information Administration, DOE.

ACTION: Agency information collection activities: Proposed collection; comment request.

SUMMARY: The Energy Information Administration (EIA) is soliciting comments on the proposed three-year extension to the petroleum marketing survey forms listed below:

EIA-14, “Refiners” Monthly Cost Report”;

EIA-182, “Domestic Crude Oil First Purchase Report”;

EIA-782A, “Refiners'/Gas Plant Operators” Monthly Petroleum Product Sales Report”;

EIA-782B, “Resellers'/Retailers” Monthly Petroleum Product Sales Report”;

EIA-782C, “Monthly Report of Petroleum Products Sold Into States for Consumption”;

EIA-821, “Annual Fuel Oil and Kerosene Sales Report”;

EIA-856, “Monthly Foreign Crude Oil Acquisition Report”;

EIA-863, “Petroleum Product Sales Identification Survey”;

EIA-877, “Winter Heating Fuels Telephone Survey”;

EIA-878, “Motor Gasoline Price Survey”;

EIA-888, “On-Highway Diesel Fuel Price Survey.”;

DATES: Written comments must be submitted on or before June 23, 2000. If you anticipate difficulty in submitting comments on or before June 23, 2000, contact the person identified below as soon as possible.

ADDRESSES: Send comments to Jacob Bournazian, Energy Information Administration, EI-42, Forrestal Building, U.S. Department of Energy, Washington, DC 20585. Alternatively, Jacob Bournazian may be contacted by phone at (202) 586-1256, by e-mail Jacob.Bournazian@eia.doe.gov, or by FAX (202) 586-4913.

FOR FURTHER INFORMATION CONTACT: Requests for additional information or copies of the form and instructions should be directed to Jacob Bournazian at the address listed above.

SUPPLEMENTARY INFORMATION:

I. Background

II. Current Actions

III. Request for Comments

I. Background

The Federal Energy Administration Act of 1974 (Pub. L. No. 93-275, 15 U.S.C. 761 et seq.) and the Department of Energy Organization Act (Pub. L. No. 95-91, 42 U.S.C. 7101 et seq.) requires the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) for the collections under Section 3507(h) of the Paperwork Reduction Act of 1995.

The petroleum marketing survey forms collect information needed for determining the supply of and demand for crude oil and refined petroleum products. These surveys provide a basic set of data pertaining to the structure, efficiency, and behavior of petroleum markets. These data are published by the EIA on its web site, www.eia.doe.gov, as well as in hardcopy publications, such as the Monthly Energy Review, Annual Energy Review, Petroleum Marketing Monthly, Petroleum Marketing Annual, Weekly Petroleum Status Report, and the International Energy Outlook. EIA also maintains a 24-hour telephone hotline number, (202) 586-6966, for the public to obtain retail prices estimates for on-highway diesel fuel and motor gasoline.

II. Current Actions

EIA requests a three-year extension to the existing survey forms with no changes to the existing collection.

III. Request for Comments

Prospective respondents and other interested persons are invited to comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent

A. Are the instructions and definitions clear and sufficient? If not, which instructions require clarification?

B. Can information be submitted by the due date specified in the instructions?

C. Public reporting burden for this collection is estimated to average per respondent: EIA-14—1.6 hours; EIA-182—4.3 hours; EIA-782A—15.0 hours; EIA-782B—2.5 hours; EIA-782C—2.1 hours; EIA-821—3.2 hours; EIA-856—6.1 hours; EIA-863—1.0; EIA-877—0.1 hour; EIA-878—0.05 hour; EIA-888—0.05 hours. The estimated burden includes the total time, effort, or financial resources expended to generate, maintain, retain, or disclose or provide the information. Please comment on (1) the accuracy of the agency's estimate and (2) how the agency could minimize the burden of the collecting this information, including the use of information technology.

D. The agency estimates respondents will incur no additional costs for reporting other than the hours required to complete the collection. What is the estimated: (1) Total dollar amount annualized for capital and start-up costs; and (2) recurring annual costs of operation and maintenance, and purchase of services associated with this data collection? The estimates should take into account the costs associated with generating, maintaining, and disclosing or providing the information.

Estimates should not include purchases of equipment or services made as part of customary and usual business practices, or the cost of any burden hours for completing the form(s). EIA estimates that there are no additional costs other than those that the respondent incurs in keeping the information for its own uses.

E. Does any other Federal, State, or local agency collect similar information? If so, specify the agency, the data element(s), and the methods of collection.

As a Potential User

A. Is the information useful at the levels of detail indicated on the form?

B. For what purpose(s) would the information be used? Be specific.

C. Are there alternate sources for the information and are they useful? If so, what are their deficiencies and/or strengths?

Comments submitted in response to this notice will be summarized and/or included in the request for OMB approval of the form. They also will become a matter of public record.

Statutory Authority: Section 3506 (c)(2)(A) of the Paperwork Reduction Act of 1995 (Pub. L. No. 104-13, 44 U.S.C. Chapter 35).

Issued in Washington, DC, April 18, 2000.
Nancy J. Kirkendall,
Acting Director, Statistics and Methods Group, Energy Information Administration.

[FR Doc. 00-10094 Filed 4-21-00; 8:45 am]

BILLING CODE 6450-01-P